FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement Nos.: 011560-005, 011785-002.

Title: The Transatlantic Bridge Agreement; COSCON/KL/YMUK Asia/U.S. East and Gulf Coast/Mediterranean Vessel Sharing Agreement.

Parties: COSCO Container Lines Company, Limited, Kawasaki Kisen Kaisha, Ltd., Yangming Marine Transport Corporation, Yangming (U.K.), Ltd.

Synopsis: The proposed agreement modifications add a provision relating to inland rates and land-side operations to conform with European Union law. The parties request expedited review.

Agreement No.: 011561-005, 011562-006.

Title: COSCO/KL Transatlantic Vessel Sharing Agreement; KL/YM Transatlantic Vessel Sharing Agreement.

Parties: COSCO Container Lines Company, Limited, Kawasaki Kisen Kaisha, Ltd., Yangming Marine Transport Corporation.

Synopsis: The proposed agreement modifications authorize COSCO to sub-charter slots to Zim Israel Navigation Company, Ltd. and adds a provision relating to inland rates and land-side operations to conform with European Union law. The parties request expedited review.

Agreement No.: 011733-004.

Title: Common Ocean Carrier Platform Agreement.

Parties: A.P. Moller-Maersk Sealand, Alianca Navegacao e Logistica Ltda., CMA CGM, S.A., Hamburg-Sud, Hapag-Lloyd Container Linie GmbH, Mediterranean Shipping Company, S.A., Nippon Yusen Kaisha, P&O Nedlloyd Limited, Safmarine Container Lines N.V., United Arab Shipping Company (S.A.G.).

Synopsis: The proposed agreement modification adds Nippon Yusen Kaisha as a non-shareholder party to the agreement.

Agreement No.: 011799.

Title: The Evergreen/Lloyd Triestino/Hatsu Marine Alliance/TSA Bridging Agreement.

Parties: Evergreen Marine Corp. (Taiwan) Ltd., Lloyd Triestino Di Navigazione S.P.A., Hatsu Marine Limited, American President Lines, Ltd. and APL Co. PTE Ltd.(operating as a single carrier), A.P. Moller-Maersk Sealand, CMA CGM S.A., Cosco Container Lines Ltd., Hanjin Shipping Company, Ltd., Hapag-Lloyd Container Linie GmbH, Hyundai Merchant Marine Co., Ltd., Kawasaki Kisen Kaisha, Ltd., Mitsui O.S.K. Lines, Ltd., Nippon Yusen Kaisha, Orient Overseas Container Line Limited, P&O Nedlloyd B.V., P&O Nedlloyd Limited, Yangming Marine Transport Corp.

Synopsis: The proposed agreement authorizes a “bridge” agreement between the Evergreen/Lloyd Triestino/Hatsu Marine Alliance Agreement and the Transpacific Stabilization Agreement (“TSA”). The Agreement will permit Lloyd Triestino and Hatsu, as well as their affiliate Evergreen, to discuss, share information, and reach voluntary agreements with the TSA and its members.

By Order of the Federal Maritime Commission.
Dated: April 26, 2002.
Bryant L. VanBrakle,
Secretary.

[FR Doc. 02-10737 Filed 4-30-02; 8:45 am]

BILLING CODE 6730-01-P